SMALL BUSINESS ADMINISTRATION

Small Business Size Standards: Waiver of the Nonmanufacturer Rule

AGENCY: U.S. Small Business Administration.

ACTION: Notice of Waiver to the Nonmanufacturer Rule for Herbicides, Insecticides, and Fungicides, under Product Service Code (PSC) 6840, under North American Industry Classification System (NAICS) code 325320, Pesticides and Other Agricultural Chemical Manufacturing.

SUMMARY: The U.S. Small Business Administration (SBA) is granting a waiver of the Nonmanufacturer Rule for Herbicides, Insecticides, and Fungicides, under PSC 6840, under NAICS code 325320. The basis for waiver is that no small business manufacturers are supplying this class of product to the Federal government. The effect of this waiver will be to allow otherwise qualified small businesses to supply the products of any manufacturer on a Federal contract set aside for small businesses, Service-Disabled Veteran-Owned (SDVO) small businesses or Participants in SBA's 8(a) Business Development (BD) Program.

DATES: This waiver is effective July 29, 2010.

FOR FURTHER INFORMATION CONTACT: Ms. Amy Garcia, Procurement Analyst, by telephone at (202) 205-6842; by FAX at (202) 481-1630; or by e-mail at amy.garcia@sba.gov.

SUPPLEMENTARY INFORMATION: Section 8(a)(17) of the Small Business Act (Act), 15 U.S.C. 637(a)(17), and SBA's implementing regulations require that recipients of Federal supply contracts set aside for small businesses, SDVO small businesses, or Participants in the SBA's 8(a) BD Program must provide the product of a small business manufacturer or processor, if the recipient is other than the actual manufacturer or processor of the product. This requirement is commonly referred to as the Nonmanufacturer Rule. 13 CFR 121.406(b), 125.15(c). Section 8(a)(17)(b)(iv) of the Act authorizes SBA to waive the Nonmanufacturer Rule for any “class of products” for which there are no small business manufacturers or processors available to participate in the Federal market.

In order to be considered available to participate in the Federal market for a class of products, a small business manufacturer must have submitted a proposal for a contract solicitation or received a contract from the Federal government within the last 24 months. 13 CFR 121.1202(c). The SBA defines “class of products” based on the Office of Management and Budget's NAICS. In addition, SBA uses PSCs to further identify particular products within the NAICS code to which a waiver would apply.

The SBA received a request on January 7, 2010, to waive the Nonmanufacturer Rule for Herbicides, Insecticides, and Fungicides, PSC 6840, under NAICS code 325320, Pesticides and Other Agricultural Chemical Manufacturing.

On May 19, 2010, SBA published in the Federal Register a notice of intent to waive the Nonmanufacturer Rule for the above listed items. SBA explained in the notice that it was soliciting comments and sources of small business manufacturers of this class of products. No comments were received in response to this notice. In addition, SBA conducted market research using the Dynamic Small Business Search database and no small business manufacturers that participate in the Federal market were identified. Thus, SBA has determined that there are no small business manufacturers of these classes of products, and is therefore granting the waiver of the Nonmanufacturer Rule for Herbicides, Insecticides, and Fungicides, under PSC 6840, under NAICS code 325320, Pesticides and Other Agricultural Chemical Manufacturing.

Karen Hontz,
Director, Office of Government Contracting.

[FR Doc. 2010-17072 Filed 7-13-10; 8:45 am]

BILLING CODE 8025-01-P